Title 3—

The President

Proclamation 7834 of October 18, 2004

National Character Counts Week, 2004

By the President of the United States of America

A Proclamation

Individuals have the power to do much good, and great societies are built by knowing the difference between right and wrong. People of character strengthen our country through their daily actions. To help children fulfill their potential and build a more hopeful future for our Nation, we must continue to encourage and support the character development of our young people and support the institutions that give direction and purpose: our families, our schools, and our faith-based and community organizations.

Americans of all ages continue to inspire others with their compassion and decency by giving their time to faith-based and community organizations and bringing hope to others at home and around the world. The Senior Corps has more than 500,000 caring souls serving in its programs; the Peace Corps has grown to its highest number of volunteers in 28 years; and AmeriCorps will grow by 50 percent to 75,000 members this year. Almost two million students volunteer each year through the Learn and Serve America programs, which incorporate community service as a vital part of education. In addition, more than 1,300 communities have formed Citizen Corps Councils; over 10,000 communities have registered Neighborhood Watch programs; more than 27,000 Americans are serving in the Medical Reserve Corps; over 52,000 citizens have completed Community Emergency Response Team training; and there are more than 68,000 volunteers in the Volunteers in Police Service program. The true strength of America lies in the hearts and souls of its citizens, and these volunteers are making our country better and stronger.

NOW, THEREFORE, I, GEORGE W. BUSH, President of the United States of America, by virtue of the authority vested in me by the Constitution and laws of the United States, do hereby proclaim October 17 through October 23, 2004, as National Character Counts Week. I call upon public officials, educators, librarians, parents, students, and all Americans to observe this week with appropriate ceremonies, activities, and programs.

IN WITNESS WHEREOF, I have hereunto set my hand this eighteenth day of October, in the year of our Lord two thousand four, and of the Independence of the United States of America the two hundred and twenty-ninth.

B

[FR Doc. 04-23777

Filed 10-20-04; 9:31 am]

Billing code 3195-01-P